NATIONAL AERONAUTICS AND SPACE ADMINISTRATION

[Notice 07-074]

Government-Owned Inventions, Available for Licensing

AGENCY: National Aeronautics and Space Administration.

ACTION: Notice of availability of inventions for licensing.

SUMMARY: The invention listed below is assigned to the National Aeronautics and Space Administration, is the subject of a patent application that has been filed in the United States Patent and Trademark office, and is available for licensing.

DATES: September 26, 2007.

FOR FURTHER INFORMATION CONTACT: Mark W. Homer, Patent Counsel, NASA Management Office—JPL, 4800 Oak Grove Drive, Mail Stop 180-200, Pasadena, CA 91109; telephone (818) 354-7770.

NASA Case No. NPO-43361-1: High-Resolution, Continuous Field-of-View, Non-Rotating Imaging System;

NASA Case No. NPO-42131-1: Portable Rapid and Quiet Drill (PRAWD);

NASA Case No. NPO-42672-1: Robot and Robot System;

NASA Case No. NPO-42261-1: Fabrication of Copper Nanotubes by Electrochemical Deposition, and Copper Nanotubes Made Therefrom;

NASA Case No. NPO-43213-1: Microfluidic Device, and Related Methods.

Dated: September 19, 2007.
Keith T. Sefton,
Deputy General Counsel, Administration and Management.

[FR Doc. E7-18922 Filed 9-25-07; 8:45 am]

BILLING CODE 7510-13-P